SECURITIES AND EXCHANGE COMMISSION

[Release No. 34-44348; File No. S7-24-89]

Joint Industry Plan; Solicitation of Comments and Order Approving Request to Extend Exchange on an Unlisted or Listed Basis, Submitted by the National Association of Securities Dealers, Inc., the Pacific Exchange, Inc. and the Boston, Chicago, Philadelphia, and Cincinnati Stock Exchanges

May 24, 2001.

I. Introduction

On May 23, 2001, the Cincinnati Stock Exchange, Inc. (“CSE”) on behalf of itself and the National Association of Securities Dealers, Inc. (“NASD”), the Boston Stock Exchange, Inc. (“BSE”), the Chicago Stock Exchange, Inc. (“CHX”), Pacific Exchange, Inc. (“PCX”), and the Philadelphia Stock Exchange, Inc. (“Phlx”) (hereinafter referred to as the “Participants”) ¹ submitted to the Securities and Exchange Commission (“Commission” or “SEC”) a proposal to extend the operation of the Plan ² for Nasdaq/National Market (“Nasdaq/NM”) securities traded on an exchange on an unlisted basis.³ The May 2001 Extension Request would extend the effectiveness of the Plan through July 19, 2001 and also would extend certain exemptive relief as described below. The May 2001 Extension Request does not seek permanent approval of the Plan because the Participants currently are negotiating certain amendments to the Plan for which they will seek approval in the future.⁴

¹ The CSE was elected as chair of the Operating Committee for the Joint Self-Regulatory Organization Plan Governing the Collection, Consolidation and Dissemination of Quotation and Transaction Information for Exchange-Listed Nasdaq/National Market System Securities and for Nasdaq/National Market System Securities Traded on Exchange on an Unlisted Trading Privileges Basis (“Plan”) by the Participants.

² See Letter from Jeffrey T. Brown, Vice President Regulation and General Counsel, CSE, to Jonathan G. Katz, Secretary, Commission, dated May 21, 2001 (“May 2001 Extension Request”). The signatories to the Plan are the Participants for purposes of this release; however, the BSE joined the Plan as a “limited participant” and reports quotation information and transaction reports only in Nasdaq/National Market securities listed on the BSE. Originally, the American Stock Exchange Inc. (“Amex”) was a Participant but withdrew its participation from the Plan in August 1994.

³ Section 12 of the Securities Exchange Act of 1934 (“Act”) generally requires an exchange to trade only those securities that the exchange lists, except that section 12(f) of the Act permits unlisted traded privileges (“UTP”) under certain circumstances. For example, section 12(f), among other things, permits exchanges to trade certain securities that are traded over-the-counter (“OTC/UTP”), but only pursuant to a Commission order or rule. The present order fulfills this section 12(f) requirement. For a more complete discussion of the section 12(f) requirement, see November 1995 Extension Order, infra note 7.

⁴ In accordance with the Commission's statements in its order approving the establishment of the Nasdaq Order Display Facility and Order Collector Facility (“SuperMontage”), the Participants represent that they are revising the Plan. See Securities Exchange Act Release No. 43863 (January 19, 2001) 66 FR 8020 (January 26, 2001).

II. Background

The Plan governs the collection, consolidation, and dissemination of quotation and transaction information for Nasdaq/NM securities listed on an exchange or traded on an exchange pursuant to a grant of UTP.⁵ The Commission originally approved the Plan on a pilot basis on June 26, 1990.⁶ The parties did not begin trading until July 12, 1993, accordingly, the pilot period commenced on July 12, 1993. The Plan as since been in operation on an extended pilot basis.⁷

⁵ See Section 12(f)(2) of the Act, 15 U.S.C. 781(f)(2).

⁶ See Securities Exchange Act Release No. 28146, 55 FR 27917 (July 6, 1990) (“1990 Plan Approval Order”).

⁷ See Securities Exchange Act Release Nos. 34371 (July 13, 1994), 59 FR 37103 (July 20, 1994); 35221 (January 11, 1995), 60 FR 3886 (January 19, 1995); 36102 (August 14, 1995), 60 FR 43626 (August 22, 1995); 36226 (September 13, 1995), 60 FR 49029 (September 21, 1995); 36368 (October 13, 1995), 60 FR 54091 (October 19, 1995); 36481 (November 13, 1995), 60 FR 58119 (November 24, 1995) (“November 1995 Extension Order”); 36589 (December 13, 1995), 60 FR 65696 (December 20, 1995); 36650 (December 28, 1995), 61 FR 358 (January 4, 1996); 36934 (March 6, 1996), 61 FR 10408 (March 13, 1996); 36985 (March 18, 1996), 61 FR 12122 (March 25, 1996); 37689 (September 16, 1996), 61 FR 50058 (September 24, 1996); 37772 (October 1, 1996), 61 FR 52980 (October 9, 1996); 38457 (March 31, 1997), 62 FR 16880 (April 8, 1997); 38794 (June 30, 1997) 62 FR 365486 (July 8, 1997); 39505 (December 31, 1997) 63 FR 1515 (January 9, 1998); 40151 (July 1, 1998) 63 FR 36979 (July 8, 1998); 40896 (December 31, 1998), 64 FR 1834 (January 12, 1999); 41392 (May 12, 1999), 64 FR 27839 (May 21, 1999) (“May 1999 Approval Order”); 42268 (December 23, 1999), 65 FR 1202 (January 6, 2000); 43005 (June 30, 2000), 65 FR 42411 (July 10, 2000); and 44099 (March 23, 2001), 66 FR 17457 (March 30, 2001).

III. Description of the Plan

The Plan provides for the collection from Plan Participants, and the consolidation and dissemination to vendors, subscribers and others, of quotation and transaction information in “eligible securities.” ⁸ The Plan contains various provisions concerning its operation, including: Implementation of the Plan; Manner of Collecting, Processing, Sequencing, Making Available and Disseminating Last Sale Information; Report Requirements (including hours of operation); Standards and Methods of Ensuring Promptness, Accuracy and Completeness of Transaction Reports; Terms and Conditions of Access; Description of Operation of Facility Contemplated by the Plan; Method and Frequency of Processor Evaluation; Written Understanding of Agreements Relating to Interpretation of, or Participation in, the Plan; Calculation of the Best Bid and Offer (“BBO”); dispute Resolution; and Method of Determination and Imposition, and Amount of Fees and Charges.⁹

⁸ The Plan defines “eligible security” as any Nasdaq/NM security as to which unlisted trading privileges have been granted to a national securities exchange pursuant to Section 12(f) of the Act or that is listed on a national securities exchange. On May 12, 1999, in response to a request from the CHX, the Commission expanded the number of eligible Nasdaq/NM securities that may be traded by the CHX pursuant to the Plan from 500 to 1000. See May 1999 Approval Order, supra note 7. On November 9, 2000, the Commission notices and requested comment on a proposal by the PCX to expand the maximum number of securities eligible to trade all Nasdaq/NM securities. See Securities Exchange Act Release No. 43545, 65 FR 69581 (November 17, 2000).

⁹ The full text of the Plan, as well as a “Concept Paper” describing the requirements of the Plan, are contained in the original filing, which is available for inspection and copying in the Commission's public reference room.

IV. Exemptive Relief

In conjunction with the Plan, on a temporary basis, the Commission granted an exemption to vendors from Rule 11 Ac1-2 ¹⁰ under the Act regarding the calculation of the BBO ¹¹ and granted the BSE an exemption from the provision of Rule 11Aa3-1 ¹² under the Act that requires transaction reporting plans to include market identifiers for transaction reports and last sale data. In the May 2001 Extension Request, the Participants ask that the Commission grant an extension of the exemptive relief described above to vendors until the BBO calculation issue is fully resolved. In addition, in the May 2001 Extension Request, the Participants request that the Commission grant an extension of the exemptive relief described above to the BSE until July 19, 2001.

¹⁰ 17 CFR 240.11 Ac1-2.

¹¹ Rule 11 Ac1-2 under the Act requires that the best bid or best offer to be computed on a price/size/time algorithm in certain circumstances. Specifically, Rule 11 Ac1-2 under the Act provides that “in the event two or more reporting market centers make available identical bids or offers for a reported security, the best bid or offer * * * shall be computed by ranking all such identical bids or offers * * * first by size * * * then by time.” The exemption permits vendors to display the BBO for Nasdaq securities subject to the Plan on a price/time/size basis.

¹² 17 CFR 11 Aa3-1.

V. Solicitation of Comment

Interested persons are invited to submit written data, views and arguments concerning the foregoing, including whether it is consistent with the Act. The Commission continues to solicit comment regarding the BBO calculation, the trade-through rule and any issues presented by changes occurring in the market place. Persons making written submissions should file six copies thereof with the Secretary, Securities and Exchange Commission, 450 Fifth Street, NW., Washington, DC 20549-0609. Copies of the submission, all subsequent amendments, all written statements with respect to the proposal that are filed with the Commission, and all written communications relating to the proposal between the Commission and any person, other than those that may be withheld from the public in accordance with the provisions of 5 U.S.C. 552, will be available for inspection and copying at the Commission's Public Reference Room. All submissions should refer to File No. S7-24-89 and should be submitted by June 21, 2001.

VI. Discussion

The Commission finds that an extension of temporary approval of the operation of the Plan, as amended, through July 19, 2001, is appropriate and in furtherance of Section 11A ¹³ of the Act.¹⁴ The Commission has previously stated that a revised Plan must be filed with the Commission by July 19, 2001, or the Commission will amend the Plan directly.¹⁵ The Participants represent in their proposal that they are negotiating certain amendments to be included in an interim plan, which would be effective from the date of Commission approval, and no later than the expiration of this extension on July 19, 2001. The Participants also represent that they are considering a permanent plan (that would include a fully viable alternative exclusive or non-exclusive securities information processor) to be filed with the Commission on July 19, 2001. In light of the current negotiations regarding the existing Plan and the representations of the Participants in their request to the Commission, the Commission approves the requested extension of the Plan until July 19, 2001.

¹³ 15 U.S.C. 78k-1.

¹⁴ In approving this extension, the Commission has considered the extension's impact on efficiency, competition, and capital formation. 15 U.S.C. 78(c)(f).

¹⁵ See supra note 4.

The Commission notes that the revised Plan, which must be filed with the Commission by July 19, 2001, must provide for either (1) a fully viable alternative exclusive securities information processor (“SIP”) for all Nasdaq securities, or (2) a fully viable alternative non-exclusive SIP in the event that the Plan does not provide for an exclusive SIP. If the revised Plan provides for an exclusive consolidating SIP, a function currently performed by Nasdaq, the Commission believes that, to avoid conflicts of interest, there should be a presumption that a Plan Participant, and in particular Nasdaq, should not operate such exclusive consolidating SIP. The presumption may be overcome if: (1) The Plan processor is chosen on the basis of bona fide competitive bidding and the Participant submits the successful bid; and (2) any decision to award a contract to a Plan Participant, and any ensuing review or renewal of such contract, is made without that Plan Participant's direct or indirect voting participation. If a Plan Participant is chosen to operate such exclusive SIP, the Commission believes there should be a further presumption that the Participant-operated exclusive SIP shall operate completely separate from any order matching facility operated by that Participant and that any order matching facility operated by that Participant must interact with the plan-operated SIP on the same terms and conditions as any other market center trading Nasdaq listed securities. Further, the Commission will expect the NASD to provide direct or indirect access to the alternative SIP, whether exclusive or non-exclusive, by any of its members that qualify, and to disseminate transaction information and individually identified quotation information for these members through the SIP.

In addition, the revised Plan should resolve the issues, which have been pending since the implementation of the Plan, of whether there is a need for an intermarket linkage for order routing and execution, whether there is a need for a trade-through rule to facilitate the trading of OTC securities pursuant to UTP, and how the BBO calculation should be determined for securities traded pursuant to the Plan.

Furthermore, the revised Plan should be open to all SROs, and the Plan should share governance of all matters subject to the Plan equitably among the SRO Participants. The Plan also should provide for sharing of market data revenues among SRO Participants. Finally, the Plan should provide a role for participation in decision making to non-SROs, that have direct or indirect access to the alternative SIP provided by the NASD. The Commission expects the parties to continue to negotiate in good faith on the above matters ¹⁶ as well as any other issues that arise during Plan negotiations.

¹⁶ See also discussion in the SuperMontage order, supra note 4.

The Commission also finds that it is appropriate to extend the exemptive relief from Rule 11Ac1-2 ¹⁷ under the Act until the earlier of July 19, 2001, or until such time as the calculation methodology of the BBO is based on a mutual agreement among the Participants approved by the Commission. The Commission further finds that it is appropriate to extend the exemptive relief from Rule 11Aa3-1¹⁸ under the Act to the BSE through July 19, 2001. The Commission believes that the temporary extensions of the exemptive relief provided to vendors and the BSE, respectively, are consistent with the Act, the Rules thereunder, and specifically with the objectives set forth in sections 12(f) ¹⁹ and 11A ²⁰ of the Act and in Rules 11Aa3-1 ²¹ and 11Aa3-2 ²² thereunder.

¹⁷ 17 CFR 11Ac1-2.

¹⁸ 17 CFR 11Aa3-1.

¹⁹ 15 U.S.C. 781(f).

²⁰ 15 U.S.C. 78k-1.

²¹ 17 CFR 240.11Aa3-1.

²² 17 CFR 240.11Aa3-2.

VII. Conclusion

It is Therefore Ordered, pursuant to sections 12(f) ²³ and 11A ²⁴ of the Act and paragraph (c)(2) of Rule 11Aa3-2 ²⁵ thereunder, that the Participants' request to extend the effectiveness of the Plan, as amended, for Nasdaq/NM securities traded on an exchange on an unlisted or listed basis through July 19, 2001, and certain exemptive relief through July 19, 2001, is approved.

²³ 15 U.S.C. 781(f).

²⁴ 15 U.S.C. 78k-1.

²⁵ 17 CFR 240.11Aa3-2(c)(2).

For the Commission, by the Division of Market Regulation, pursuant to delegated authority.²⁶
²⁶ 17 CFR 200.30-3(a)(29).
Margaret H. McFarland,
Deputy Secretary.

[FR Doc. 01-13631 Filed 5-30-01; 8:45 am]

BILLING CODE 8010-01-M